DEPARTMENT OF ENERGY

Federal Energy Regulatory Commission

[Docket No. RP01-163-001]

Dominion Transmission, Inc.; Notice of Proposed Changes in FERC Gas Tariff

December 20, 2000.

Take notice that on December 13, 2000, Dominion Transmission Inc. (DTI), tendered for filing as part of its FERC Gas Tariff, Third Revised Volume No. 1, the following revised tariff sheets, with an effective date of January 1, 2001:

Substitute Fourth Revised Sheet No. 32

DTI states that the purpose of this filing is to re-submit the above-mentioned revised tariff sheet for inclusion on DTI's FERC Gas Tariff, Third Revised Volume No. 1. DTI is re-submitting this tariff sheet in order to fix capacity release rates that were calculated incorrectly due to an inadvertent clerical error.

DTI states that copies of its letter of transmittal and enclosures have been served upon the parties to this proceeding.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm

David P. Boergers,
Secretary.

[FR Doc. 00-32904 Filed 12-26-00; 8:45 am]

BILLING CODE 6717-01-M